DEPARTMENT OF ENERGY

Federal Energy Regulatory Commission

[Docket Nos. RP00-346-002 and RP01-16-002]

Dauphin Island Gathering Partners; Notice of Compliance Filing

June 5, 2003.

Take notice that on May 30, 2003, Dauphin Island Gathering Partners (Dauphin Island) tendered for filing as part of its FERC Gas Tariff, First Revised Volume No. 1, the tariff sheets included in Appendix A to the filing, with an effective date July 1, 2003.

Dauphin Island states that the revised tariff sheets are being filed in anticipation of implementing the Order 637 tariff sheets on July 1, 2003. The tariff sheets incorporate the tariff changes from Dauphin Island's Order No. 587-O compliance filing which were submitted after Dauphin Island's last Order No. 637 filing.

Dauphin Island states that copies of the filing are being served contemporaneously on all participants listed on the service list in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 11, 2003.

Magalie R. Salas,
Secretary.

[FR Doc. 03-14757 Filed 6-10-03; 8:45 am]

BILLING CODE 6717-01-P